DEPARTMENT OF HOUSING AND URBAN DEVELOPMENT

2 CFR Chapter XXIV

5 CFR Chapter LXV

12 CFR Chapter XVII

24 CFR Chapters I, II, III, IV, V, VI, VIII, IX, X, XII, and Subtitles A and B

48 CFR Chapter 24

[Docket No. FR-5506-N-02]

Reducing Regulatory Burden; Retrospective Review Plans Under E.O. 13563

AGENCY: Office of the General Counsel, HUD.

ACTION: Request for information.

SUMMARY: In accordance with Executive Order 13563, “Improving Regulation and Regulatory Review,” HUD has developed a preliminary review plan for periodically analyzing its existing significant regulations to determine whether they should be modified, streamlined, expanded, or repealed. The preliminary plan also identifies specific regulatory actions rules that HUD will be undertaking to address regulations that the Department has identified as being outdated, ineffective, or excessively burdensome. The preliminary plans of the Federal agencies have been posted on the White House Web site at: http://www.slideshare.net/whitehouse/hud-combined. Through this notice, HUD solicits public comment on the Department's preliminary plan and list of candidate rules. The purpose of HUD's regulatory review is to make the Department's regulations more effective and less burdensome in achieving HUD's mission to create strong, sustainable, inclusive communities, and quality affordable homes for all.

DATES: Comment Due Date: Comments on HUD's preliminary regulatory review plan and list of candidate rules are due on or before: August 1, 2011.

ADDRESSES: Interested persons are invited to submit comments regarding HUD's preliminary regulatory review plan and list of candidate rules to the Regulations Division, Office of General Counsel, Department of Housing and Urban Development, 451 7th Street, SW., Room 10276, Washington, DC 20410-0500. Communications must refer to the above docket number and title. There are three methods for submitting public comments. All submissions must refer to the above docket number and title.

1. Submission of Comments by Mail. Comments may be submitted by mail to the Regulations Division, Office of General Counsel, Department of Housing and Urban Development, 451 7th Street, SW., Room 10276, Washington, DC 20410-0001.

2. E-mail Submission of Comments: Comments may be submitted by e-mail to RegulatoryReview@hud.gov.

3. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the three methods specified above. Again, all submissions must refer to the docket number and title of the rule. No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number via TTY by calling the Federal Information Relay Service at 800-877-8339. Copies of all comments submitted are available for inspection and downloading at http://www.regulations.gov.

FOR FURTHER INFORMATION CONTACT: Camille E. Acevedo, Associate General Counsel for Legislation and Regulations, Office of General Counsel, Department of Housing and Urban Development, 451 7th Street, SW., Room 10282, Washington, DC 20410; telephone number 202-708-1793 (this is not a toll-free number). Persons with hearing or speech impairments may access this number through TTY by calling the toll-free Federal Information Relay Service at 800-877-8339.

SUPPLEMENTARY INFORMATION:

I. Background

On January 18, 2011, President Obama issued Executive Order 13563, “Improving Regulation and Regulatory Review.”¹ The Executive Order requires Federal agencies to seek more affordable, less intrusive ways to achieve policy goals and give careful consideration to the benefits and costs of those regulations. The Executive Order recognizes that these principles should not only guide the Federal government's approach to new regulations, but to existing ones as well. To that end, agencies are required to review existing significant regulations to determine if they are outmoded, ineffective, insufficient or excessively burdensome. Executive Order 13563 also required that, by May 18, 2011, each agency develop and submit to the Office of Management and Budget's Office of Information and Regulatory Affairs a preliminary plan for periodically reviewing existing significant regulations to determine whether they should be modified, streamlined, expanded, or repealed so as to make the agency's regulatory program more effective or less burdensome in achieving regulatory objectives.

¹ The Executive Order was subsequently published in the Federal Register on January 21, 2011, at 76 FR 3821.

On March 2, 2011, at 76 FR 11395, HUD published a notice in the Federal Register inviting public comments, with a comment deadline of May 2, 2011, to assist in the development of the plan required by the Executive Order and in identifying specific current regulations that should be the subject of HUD review. HUD received 42 public comments from nonprofit advocacy groups, private industry groups, housing authorities, and private individuals, amounting to more than 300 specific suggestions.

The preliminary regulatory review plans of the Federal agencies have been posted on the White House Web site at: http://www.slideshare.net/whitehouse/hud-combined. The appendix to HUD's plan identifies the initial set of HUD regulatory actions being taken in response to Executive Order 13563. HUD carefully considered the comments received in response to the March 2, 2011, notice in development of its preliminary plan.

Through this notice, HUD solicits public comment on the Department's preliminary plan and list of candidate rules. All comments will be considered in the development of HUD's final plan.

Dated: May 26, 2011.
Camille E. Acevedo,
Associate General Counsel for Legislation and Regulations.

[FR Doc. 2011-13597 Filed 6-1-11; 8:45 am]

BILLING CODE 4210-67-P